DEPARTMENT OF ENERGY

Federal Energy Regulatory Commission

[Docket No. RP00-257-000]

Ozark Gas Transmission, L.L.C., Notice of Technical Conference

July 26, 2000.

In the Commission's order issued on May 31, 2000, the Commission directed that a technical conference be held to address issues raised by the filing.

Take notice that the technical conference will be held on Wednesday, August 16, 2000, at 10:00 am, in a room to be designated at the offices of the Federal Energy Regulatory Commission, 888 First Street, NE, Washington, DC 20426.

All interested parties and Staff are permitted to attend.

David P. Boergers,
Secretary.

[FR Doc. 00-19319 Filed 7-31-00; 8:45 am]

BILLING CODE 6717-01-M